CHEMICAL SAFETY AND HAZARD INVESTIGATION BOARD

Senior Executive Service Performance Review Board

AGENCY: Chemical Safety and Hazard Investigation Board.

ACTION: Notice.

SUMMARY: This notice announces changes in the membership of the Senior Executive Service Performance Review Board for the Chemical Safety and Hazard Investigation Board (CSB).

DATES: Effective November 15, 2007.

FOR FURTHER INFORMATION CONTACT: Christopher Kirkpatrick, Office of General Counsel, (202) 261-7600.

SUPPLEMENTARY INFORMATION: 5 U.S.C. 4314(c)(1) requires each agency to establish, in accordance with regulations prescribed by the Office of Personnel Management, a performance review board (PRB). The PRB reviews initial performance ratings of members of the Senior Executive Service (SES) and makes recommendations on performance ratings and awards for senior executives. Because the CSB is a small independent Federal agency, the SES members of the CSB's PRB are being drawn from other Federal agencies.

The CSB Board Member Delegated Interim Executive and Administrative Authority has appointed the following individuals to the CSB Senior Executive Service Performance Review Board:

PRB Chair—William B. Wark, Board Member, Chemical Safety and Hazard Investigation Board.

PRB Member—Curtis Bowling, Director of Environmental Readiness and Safety, Office of the Secretary of Defense/Chairman, Department of Defense Explosives Safety Board.

Mr. Wark replaces John S. Bresland (formerly Board Member, Chemical Safety and Hazard Investigation Board) as Chair of the PRB. Mr. Bowling replaces Leon A. Wilson, Jr. (formerly Executive Director, Committee for Purchase From People Who Are Blind or Severely Disabled). The service of Mr. Bresland and Mr. Wilson on the PRB has ended. Their appointments were originally announced in the Federal Register of October 8, 2003 (68 FR 58063) (Bresland) and January 11, 2007 (72 FR 1317) (Wilson).

Lawrence W. Roffee (Executive Director, United States Access Board) continues to serve as a Member of the PRB, as announced in the Federal Register of January 11, 2007 (72 FR 1317).

This notice is published in the Federal Register pursuant to the requirement of 5 U.S.C. 4314(c)(4).

Dated: November 8, 2007.
Raymond C. Porfiri,
Deputy General Counsel.

[FR Doc. E7-22332 Filed 11-14-07; 8:45 am]

BILLING CODE 6350-01-P